SECURITIES AND EXCHANGE COMMISSION

[Release No. 34-64864; File No. SR-DTC-2011-06]

Self-Regulatory Organizations; The Depository Trust Company; Notice of Filing of Proposed Rule Change To Amend Rules Relating to the Early Redemption of Certificates of Deposit

July 12, 2011.

Correction

In notice document 2011-17957 appearing on pages 42149-42150 in the issue of Monday, July 18, 2011, make the following correction:

On page 42150, in the second column, in the 16th line, “[insert date 21 days from publication in the Federal Register]” should read “August 8, 2011”.

[FR Doc. C1-2011-17957 Filed 7-27-11; 8:45 am]

BILLING CODE 1505-01-D